SMALL BUSINESS ADMINISTRATION

Office of International Trade; State Trade and Export Promotion (STEP) Grant Program

AGENCY: U.S. Small Business Administration (SBA).

ACTION: Notice of grant opportunity to States.

Eligible Applicants: Each of the several States, the District of Columbia, the Commonwealth of Puerto Rico, the U.S. Virgin Islands, Guam, and American Samoa.

SUMMARY: The SBA plans to issue Program Announcement No. OIT-STEP-2011-01 to invite the States, the District of Columbia and the U.S. Territories to apply for a STEP grant to carry out export promotion programs that assist eligible small business concerns to become exporters and increase the value of small business U.S. exports. STEP grants will be awarded on a competitive basis. The funding instrument is a cooperative agreement. A state may not submit more than 1 application for a grant under the program. Awards will be made for a project period of 12 months from the date of award. A state may apply each Federal fiscal year that Congressional appropriations are made available throughout the 3-year term of the program.

DATES: Program Announcement No. OIT-STEP-2011-01 will be posted on http://www.Grants.gov on March 1, 2011. The application period will be March 1, 2011 through April 26, 2011. Awards for the first year of the grant program will be issued in the summer of 2011.

SUPPLEMENTARY INFORMATION: The Small Business Jobs Act of 2010 authorizes the U.S. Small Business Administration to establish a 3-year pilot program, known as the State Trade and Export Promotion (STEP) Grant Program, to make grants to States to assist eligible small business concerns. The objective of the STEP Grant Program is to increase the number of small businesses that are exporting, and increase the value of exports by small businesses in the States.

The applicants' proposed activities for small businesses may include:

• Participation in a foreign trade mission,

• A foreign market sales trip,

• A subscription to services provided by the Department of Commerce,

• The payment of website foreign language translation fees,

• The design of international marketing products or campaigns,

• An export trade show exhibit,

• Participation in training workshops,

• Any other export initiative deemed appropriate by SBA's Associate Administrator of the Office of International Trade (OIT) that does not duplicate the services of other SBA resource partners. These other export initiatives may include, but are not limited to, projects that increase direct and indirect supply chain exporting; export match-making events; formation of export outreach teams composed of State, local, Federal, etc. personnel; sector-specific projects unique to the State's environment/geography/international relationships; projects to develop and use technology for exporting; reverse trade missions; and projects to increase lender readiness for financing export trade.

In making grants, SBA may give priority to an application that focuses on socially and economically disadvantaged small businesses, women-owned small businesses, veteran and service-connected disabled veteran-owned small businesses, or rural small businesses as part of an export promotion program.

State recipients are encouraged to work collaboratively with the SBA District Offices, SBA regional managers at U.S. Export Assistance Centers (USEAC) and SBA resource partners (i.e., Women's Business Centers (WBCs), Small Business Trade Development Centers (SBTDC), Small Business Development Centers (SBDC), Veterans Business Outreach Centers (VBOC) and SCORE) to coordinate their efforts to promote trade and avoid duplication. Also, the States are encouraged to fully utilize the resources of other Federal, state and local government agencies, academic and private-sector programs that aid small businesses in order to provide seamless, non-duplicative export promotion assistance.

SBA expects to issue awards under this Program Announcement totaling the full FY 2011 appropriated amount of $30,000,000. Individual State project award amounts will vary based on the State's proposed project plan and budget. The Federal share of project costs for grants to the 10 states with the highest number of exporters that are small business concerns will not exceed 40% of the $30 million appropriation. The other 60% will be reserved for the remaining States. The States with the highest number of small business exporters will be determined based on the latest data available from the Department of Commerce.

The Federal share of project cost for a State that has a high export volume will be 65%. The Federal share of project cost for a State that does not have a high export volume will be 75%. (The Associate Administrator for the SBA Office of International Trade will determine which States have high export volume). The State must match the remainder of project cost. The match must be comprised of not less than 50% cash and not more than 50% of indirect costs and in-kind contributions. Matching funds may not be derived from any Federal program.

FOR FURTHER INFORMATION CONTACT: E-mail questions about the STEP Grant Program to STEP@sba.gov.

Dated: February 17, 2011.
Luz Hopewell,
Acting Associate Administrator, Office of International Trade.

[FR Doc. 2011-4009 Filed 2-22-11; 8:45 am]

BILLING CODE 8025-01-P